DEPARTMENT OF THE INTERIOR

Office of Surface Mining Reclamation and Enforcement

Notice of Receipt of a Petition To Designate Lands Unsuitable for Mining and To Prepare a Petition Evaluation Document and Environmental Impact Statement

AGENCY: Office of Surface Mining Reclamation and Enforcement, Interior.

ACTION: Notice of intent to prepare a combined petition evaluation document/environmental impact statement, and notice of scoping meeting and scoping comment period for the petition.

SUMMARY: Notice is hereby given that the Office of Surface Mining Reclamation and Enforcement (OSM) intends to prepare a combined petition evaluation document/environmental impact statement (PED/EIS) for the decision on a petition to designate certain lands within the North Cumberland Wildlife Management Area and the Emory River Tracts Conservation Easement in Anderson, Campbell, Morgan, and Scott Counties, Tennessee, as unsuitable for surface coal mining and reclamation operations in accordance with Section 522 of the Surface Mining Control and Reclamation Act (SMCRA) of 1977. OSM has identified three alternatives that the combined PED/EIS would evaluate as described in the supplementary information of this notice. OSM requests that other Federal and state agencies and the public submit written comments or statements on the need for an EIS on the petition and the scope of the issues which should be analyzed in the combined document.

DATES: Written comments must be received by 5 p.m. (EDT), April 14, 2011. Oral and written comments may be presented at one of the three scoping meetings. The scoping meetings will be held at: Huntsville Middle School at 6:30 p.m. (EDT) on March 8, 2011; LaFollette Middle School, at 6:30 p.m. (EDT) on March 10, 2011; and Oak Ridge High School at 6:30 p.m. (EDT) on March 15, 2011.

ADDRESSES: Written comments may be submitted via e-mail to TNLUM@osmre.gov or mailed or hand delivered to the Office of Surface Mining, Field Office Director, Attn: Earl D. Bandy Jr., John J. Duncan Federal Building, 710 Locust Street, Second Floor, Knoxville, Tennessee 37902.

Copies of the petition are available upon request from the OSM at the above address. Copies of the petition are also available via the internet at http://tn.gov/environment/lumpetition.shtml.

The public record on the petition is available for review during normal working hours (8 a.m. to 4:30 p.m.) at the OSM office listed above. The March 8 scoping meeting will be held at the Huntsville Middle School, 3101 Baker Highway, Huntsville, Tennessee. The March 10 scoping meeting will be held at the LaFollette Middle School, 1309 East Central Avenue, LaFollette, Tennessee. The March 15 scoping meeting will be held at the Oak Ridge High School, 1450 Oak Ridge Turnpike, Oak Ridge, Tennessee.

FOR FURTHER INFORMATION CONTACT: Earl D. Bandy Jr., at the OSM office listed above (telephone: 865-545-4103 ex.186).

SUPPLEMENTARY INFORMATION: On October 1, 2010, the State of Tennessee petitioned the Office of Surface Mining Reclamation and Enforcement (OSM), United States Department of the Interior, to designate certain lands within the North Cumberland Wildlife Management Area and the Emory River Tracts Conservation Easement in Anderson, Campbell, Morgan, and Scott Counties, Tennessee as unsuitable for surface coal mining operations pursuant to the Surface Mining Control and Reclamation Act of 1977 (30 U.S.C. 1201 et seq.). The petition was amended on November 5, 2010, and deemed administratively complete and accepted for processing on November 23, 2010. The petition as accepted is a 28-page document with a one-page exhibit. The amendment consisted of a three-page cover letter, two exhibits totaling nine pages and four CD's containing various reference documents in support of their position. The Federal Program for Tennessee, as administered by OSM, applies to all surface coal mining operations in Tennessee including the processing of lands unsuitable for mining petitions (30 CFR part 942).

The petition area occupies approximately 67,326 acres in Scott, Campbell, Anderson, and Morgan Counties, Tennessee and is identified as the land within 600 feet on each side (1,200 feet total) of all ridge lines lying within the North Cumberland Wildlife Management Area (WMA) which is comprised of the Royal Blue WMA, the Sundquist WMA, and the New River WMA (also known as the Brimstone Tract Conservation Easement) and the Emory River Tracts Conservation Easement.

The major allegations of the petition can be summarized as follows:

1. Surface mining operations in the petition area would be incompatible with the conservation goals of Tennessee's “Connecting the Cumberland's” project, as well as with various state land use plans, programs and strategies that govern and set goals for the lands within and downstream of the petition area.

2. Surface mining operations in the petition area would significantly damage the natural systems and esthetic, recreational, cultural, and historic values of the ridge lines and their viewsheds that exist within these fragile lands.

OSM has identified three possible alternatives that the combined PED/EIS would evaluate:

• Alternative 1—Designate the entire petition area as unsuitable for surface coal mining operations.

• Alternative 2—Not designate any of the area as unsuitable for surface coal mining operations.

• Alternative 3—Designate parts of the petition area as unsuitable for all or certain types of surface coal mining operations.

A scoping comment period is intended to raise the relevant issues to be addressed by the combined document. OSM seeks public comments in relation to the scope of issues to be addressed by the impact evaluation, including impacts and alternatives that should be addressed. Written comments should be specific and confined to issues pertinent to the petition. The public comments received during the scoping period will assist OSM in making decisions on the petition evaluation and in preparing the PED/EIS. OSM believes that the proposed action is a major Federal action that may significantly affect the quality of the human environment and may require the preparation of an EIS. OSM additionally gives notice here that should information or analyses show that the proposed action does not require an EIS, we will terminate the EIS process through an appropriate notice in the Federal Register, prepare an environmental assessment, and continue processing of the petition under the regulations at 30 CFR parts 764 and 942.

Dated: January 31, 2011.
Sterling Rideout,
Assistant Director, Program Support.

[FR Doc. 2011-2765 Filed 2-7-11; 8:45 am]

BILLING CODE 4310-05-P